DEPARTMENT OF ENERGY

Federal Energy Regulatory Commission

Combined Notice of Filings #1

November 9, 2005.

Take notice that the Commission received the following electric rate filings:

Docket Numbers: ER05-554-003.

Applicants: PacifiCorp.

Description: PacifiCorp reports that on 10/14/05 it paid $26,929 to Warms Springs Power Enterprises in compliance with FERC's 8/25/05 Order.

Filed Date: 11/03/2005.

Accession Number: 20051108-0212.

Comment Date: 5 p.m. Eastern Time on Friday, November 25 2005.

Docket Numbers: ER06-150-000.

Applicants: PJM Interconnection L.L.C.

Description: PJM Interconnection LLC submits its Third Revised Rate Schedule No. 24 and Sixth Revised Volume No. 1.

Filed Date: 11/02/2005.

Accession Number: 20051108-0285

Comment Date: 5 p.m. Eastern Time on Wednesday, November 23, 2005.

Docket Numbers: ER06-151-000.

Applicants: PJM Interconnection, L.L.C.

Description: PJM Interconnection, LLC submits revisions to the PJM FERC Electric Tariff, Third Revised Rate Schedule No. 24 & Sixth Revised Volume No. 1.

Filed Date: 11/02/2005.

Accession Number: 20051108-0255.

Comment Date: 5 p.m. Eastern Time on Wednesday, November 23, 2005.

Docket Numbers: ER06-152-000.

Applicants: Wisconsin Public Service Corporation.

Description: Wisconsin Public Service Corp submits a revised Market-Base Rate Tariff designated as FERC Electric Tariff, Fourth Revised Volume No. 10.

Filed Date: 11/03/2005.

Accession Number: 20051108-0209.

Comment Date: 5 p.m. Eastern Time on Friday, November 25, 2005.

Docket Numbers: ER06-153-000.

Applicants: American Electric Power Service Corporation.

Description: American Electric Power Service Corp on behalf AEP Texas Central Company submits a restated and amended interconnection agreement dated 11/29/99.

Filed Date: 11/03/2005.

Accession Number: 20051108-0210.

Comment Date: 5 p.m. Eastern Time on Friday, November 25, 2005.

Docket Numbers: ER06-154-000; ER05-1307-000.

Applicants: Tampa Electric Company.

Description: Tampa Electric Co submits a Compliance Filing of Second Revised Sheet No. 121 to FERC Electric Tariff, Second Revised Volume No. 4.

Filed Date: 11/03/2005.

Accession Number: 20051108-0211.

Comment Date: 5 p.m. Eastern Time on Friday, November 25, 2005.

Docket Numbers: ER06-155-000.

Applicants: Walton Electric Membership Corporation.

Description: Walton Electric Membership Corp informs FERC it is no longer a public utility subject to jurisdiction pursuant to section 201(f) of the Federal Power Act and no longer is required to file reports effective 8/8/05.

Filed Date: 11/02/2005.

Accession Number: 20051108-0207.

Comment Date: 5 p.m. Eastern Time on Wednesday, November 23, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6334 Filed 11-16-05; 8:45 am]

BILLING CODE 6717-01-P